SURFACE TRANSPORTATION BOARD

[Docket No. AB 1240X]

Southwest Pennsylvania Railroad Company—Abandonment Exemption—in Fayette County, Pa.

Southwest Pennsylvania Railroad Company (SWP) has filed a verified notice of exemption under 49 CFR part 1152 subpart F—Exempt Abandonments to abandon .3 miles of rail line between milepost 7 in Uniontown to the end of the line in South Union Township (SUT), in Fayette County, Pa. (the Line). The Line traverses U.S. Postal Service Zip Code 15401.

SWP states it plans to abandon the Line and convert the property to trail use.¹ The proposed transaction may not be consummated until January 5, 2017.

¹ SWP states it has agreed to lease the line to SUT pursuant to the National Trails System Act, 16 U.S.C. 1247(d), upon the Board imposing a decision and notice of interim trail use or abandonment.

SWP has certified that: (1) No local traffic has moved over the Line for at least two years; (2) there is no overhead traffic on the Line; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7(c) and 1105.8(c) (environmental and historic report), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will become effective on January 5, 2017, unless stayed pending reconsideration. Petitions to stay that do not involve environmental issues,² formal expressions of intent to file an OFA under 49 CFR 1152.27(c)(2),³ and interim trail use/rail banking requests under 49 CFR 1152.29 must be filed by December 16, 2016. Petitions to reopen or requests for public use conditions under 49 CFR 1152.28 must be filed by December 27, 2016, with the Surface Transportation Board, 395 E Street SW., Washington, DC 20423-0001.

² The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

³ Each OFA must be accompanied by the filing fee, which is currently set at $1,700. See Regulations Governing Fees for Servs. Performed in Connection with Licensing & Related Servs.—2016 Update, EP 542 (Sub-No. 24) (STB served Aug. 2, 2016).

A copy of any petition filed with the Board should be sent to SWP's representative: Richard R. Wilson, P.C., 518 N. Center St., Suite 1, Ebensburg, PA 15931.

If the verified notice contains false or misleading information, the exemption is void ab initio.

SWP has filed a combined environmental and historic report that addresses the effects, if any, of the abandonment on the environment and historic resources. OEA will issue an environmental assessment (EA) by December 9, 2016. Interested persons may obtain a copy of the EA by writing to OEA (Room 1100, Surface Transportation Board, Washington, DC 20423-0001) or by calling OEA at (202) 245-0305. Assistance for the hearing impaired is available through the Federal Information Relay Service at (800) 877-8339. Comments on environmental and historic preservation matters must be filed within 15 days after the EA becomes available to the public.

Environmental, historic preservation, public use, or interim trail use/rail banking conditions will be imposed, where appropriate, in a subsequent decision.

Pursuant to the provisions of 49 CFR 1152.29(e)(2), SWP shall file a notice of consummation with the Board to signify that it has exercised the authority granted and fully abandoned the Line. If consummation has not been effected by SWP's filing of a notice of consummation by December 6, 2017, and there are no legal or regulatory barriers to consummation, the authority to abandon will automatically expire.

Board decisions and notices are available on our Web site at “WWW.STB.GOV.”

Decided: November 30, 2016.
By the Board, Rachel D. Campbell, Director, Office of Proceedings.
Jeffrey Herzig,
Clearance Clerk.

[FR Doc. 2016-29241 Filed 12-5-16; 8:45 am]

BILLING CODE 4915-01-P